DEPARTMENT OF ENERGY

Federal Energy Regulatory Commission

Combined Notice of Filings

Take notice that the Commission has received the following Natural Gas Pipeline Rate and Refund Report filings:

Filings Instituting Proceedings

Docket Numbers: RP13-885-000.

Applicants: Gas Transmission Northwest LLC, Suncor Energy Marketing Inc., Suncor Energy (U.S.A.) Holdings Inc.

Description: Joint Petition of Gas Transmission Northwest LLC, Suncor Energy (U.S.A.) Holdings Inc., and Suncor Energy Marketing Inc. for Authorization or, in the Alternative, Temporary Tariff Waiver.

Filed Date: 5/1/13.

Accession Number: 20130501-5387.

Comments Due: 5 p.m. ET 5/13/13.

Docket Numbers: RP13-890-000.

Applicants: Dominion South Pipeline Company, LP.

Description: DSP-2013 Report of Penalty Revenues.

Filed Date: 5/6/13.

Accession Number: 20130506-5037.

Comments Due: 5 p.m. ET 5/20/13.

Docket Numbers: RP13-891-000.

Applicants: Egan Hub Storage, LLC.

Description: FOSA Modifications May 2013 Filing to be effective 8/1/2013.

Filed Date: 5/8/13.

Accession Number: 20130508-5021.

Comments Due: 5 p.m. ET 5/20/13.

Docket Numbers: RP13-892-000.

Applicants: East Tennessee Natural Gas, LLC.

Description: FOSA Modifications May 2013 Filing to be effective 8/1/2013.

Filed Date: 5/8/13.

Accession Number: 20130508-5022.

Comments Due: 5 p.m. ET 5/20/13.

Docket Numbers: RP13-893-000.

Applicants: Saltville Gas Storage Company L.L.C.

Description: FOSA Modifications May 2013 Filing to be effective 8/1/2013.

Filed Date: 5/8/13.

Accession Number: 20130508-5023.

Comments Due: 5 p.m. ET 5/20/13.

Docket Numbers: RP13-894-000.

Applicants: Steckman Ridge, LP.

Description: FOSA Modifications May 2013 Filing to be effective 8/1/2013.

Filed Date: 5/8/13.

Accession Number: 20130508-5024.

Comments Due: 5 p.m. ET 5/20/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-117-003.

Applicants: Columbia Gas Transmission, LLC.

Description: NAESB 2.0—Waiver 5.4.16 Removal Request to be effective 12/1/2012.

Filed Date: 5/7/13.

Accession Number: 20130507-5125.

Comments Due: 5 p.m. ET 5/20/13.

Docket Numbers: RP13-121-003.

Applicants: Crossroads Pipeline Company.

Description: NAESB Waiver Removal to be effective 12/1/2012.

Filed Date: 5/7/13.

Accession Number: 20130507-5124.

Comments Due: 5 p.m. ET 5/20/13.

Docket Numbers: RP13-122-003.

Applicants: Central Kentucky Transmission Company.

Description: NAESB Waiver Removal to be effective 12/1/2012.

Filed Date: 5/7/13.

Accession Number: 20130507-5126.

Comments Due: 5 p.m. ET 5/20/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: May 8, 2013.
Nathaniel J. Davis, Sr.,
Deputy Secretary.

[FR Doc. 2013-11548 Filed 5-14-13; 8:45 am]

BILLING CODE 6717-01-P